DEPARTMENT OF DEFENSE

Department of the Navy

Notice of Availability of Invention for Licensing; Government-Owned Invention

AGENCY: Department of the Navy, DoD.

ACTION: Notice.

SUMMARY: The inventions listed below are assigned to the United States Government as represented by the Secretary of the Navy and are available for licensing by the Department of the Navy. U.S. Patent No. 7,724,500: Nanoscale Manganese Oxide on Ultraporous Carbon Nanoarchitecture, Navy Case No. 098,802.//U.S. Patent No. 9,093,721: Dual-Function Air Cathode Nanoarchitectures for Metal-Air Batteries with Pulse-Power Capability, Navy Case No. 100,774.//U.S. Patent Application No. 13/784,942: Macroporous Carbon Nanofoam Composites, Navy Case No. 099,270.//U.S. Patent Application No. 13/832,576: Zinc Electrodes for Batteries, Navy Case No. 102,137 and any continuations, divisionals or re-issues thereof.

ADDRESSES: Requests for copies of the inventions cited should be directed to the Naval Research Laboratory, Code 1004, 4555 Overlook Avenue SW., Washington, DC 20375-5320 and must include the Navy Case number.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR part 404.

Dated: April 11, 2016.
N.A. Hagerty-Ford,
Federal Register Liaison Officer, Commander, Judge Advocate General's Corps, U.S. Navy.

[FR Doc. 2016-08736 Filed 4-14-16; 8:45 am]

BILLING CODE 3810-FF-P